DEPARTMENT OF LABOR

Employment and Training Administration

[TA-W-38,253]

Intercontinental Branded Apparel, Ellwood Avenue, Buffalo, NY; Amended Notice of Revised Determination on Reconsideration

In accordance with section 223 of the Trade Act of 1974 (19 U.S.C. 2273) the Department of Labor issued a Revised Determination on Reconsideration on February 21, 2001, applicable to workers of Intercontinental Branded Apparel, Ellwood Avenue, Buffalo, New York. The notice was published in the Federal Register on March 2, 2001 (FR 66 13087).

At the request of the State agency, the Department reviewed the certification for workers of the subject firm. The workers produce men's suit coats and sports coats. New findings show that there was a previous certification, TA-W-34,983, issued on October 21, 1998 for workers of Intercontinental Branded Apparel, Ellwood Avenue, Buffalo, New York who were engaged in employment related to the production of men's suit coats and sports coats. That certification expired October 21, 2000. To avoid an overlap in worker group coverage, the certification is being amended to change the impact date for October 17, 1999 to October 22, 2000, for workers of the subject firm.

The amended notice applicable to TA-W-38,253 is hereby issued as follows:

All workers of Intercontinental Branded Apparel, Ellwood Avenue, Buffalo, New York who became totally or partially separated from employment on or after October 22, 2000 through February 21, 2003 are eligible to apply for adjustment assistance under Section 223 of the Trade Act of 1974.

Signed at Washington, DC this 14th day of March, 2001.
Linda G. Poole,
Certifying Officer, Division of Trade Adjustment Assistance.

[FR Doc. 01-8329 Filed 4-4-01; 8:45 am]

BILLING CODE 4510-30-M